DEPARTMENT OF EDUCATION

[CFDA No. 84.069]

Federal Student Aid; Leveraging Educational Assistance Partnership and Special Leveraging Educational Assistance Partnership Programs

AGENCY: Department of Education.

ACTION: Notice of the deadline dates for receipt of State applications for Award Year 2009-2010 funds.

SUMMARY: This is a notice of deadline dates for receipt of State applications for Award Year 2009-2010 funds under the Leveraging Educational Assistance Partnership (LEAP) and Special Leveraging Educational Assistance Partnership (SLEAP) programs.

The LEAP and SLEAP programs, authorized under title IV, part A, subpart 4 of the Higher Education Act of 1965, as amended (HEA), assist States in providing aid to students with substantial financial need to help them pay for their postsecondary education costs through matching formula grants to States. Under section 415C(a) of the HEA, a State must submit an application to participate in the LEAP and SLEAP programs through the State agency that administered its LEAP Program as of July 1, 1985, unless the Governor of the State has subsequently designated, and the Department has approved, a different State agency to administer the LEAP Program.

DATES: To assure funding under the LEAP and SLEAP programs for Award Year 2009-2010, a State must meet the applicable deadline date. Applications submitted electronically must be received by 11:59 p.m. (Eastern time), May 29, 2009. Paper applications must be received by May 22, 2009.

FOR FURTHER INFORMATION CONTACT: Mr. Greg Gerrans, LEAP Program Manager, Grants and Campus Based Programs Division, Business Operations, Federal Student Aid, U.S. Department of Education, 830 First Street, NE., Room 62E3, Washington, DC 20202. Telephone: (202) 377-3304.

If you use a telecommunications device for the deaf (TDD), call the Federal Relay Service (FRS), toll-free, at 1-800-877-8339.

Individuals with disabilities can obtain this document in an accessible format (e.g., braille, large print, audiotape, or computer diskette) on request to the program contact person listed under FOR FURTHER INFORMATION CONTACT.

SUPPLEMENTARY INFORMATION: Only the 50 States, the District of Columbia, the Commonwealth of Puerto Rico, Guam, the Commonwealth of the Northern Mariana Islands, American Samoa and the U.S. Virgin Islands may submit an application for funding under the LEAP and SLEAP programs.

State allotments for each award year are determined according to the statutorily mandated formula under section 415B of the HEA and are not negotiable. A State may also request its share of reallotment under section 415B, in addition to its basic allotment, which is contingent upon the availability of such additional funds.

In Award Year 2008-2009, 49 States, the District of Columbia, Puerto Rico, and the U.S. Virgin Islands received funds under the LEAP Program. Additionally, 42 States, the District of Columbia, and the U.S. Virgin Islands received funds under the SLEAP Program.

Applications Submitted Electronically: States or territories may apply using the electronic form (Form 1288-E OMB 1845-0028) which can be obtained by contacting Mr. Greg Gerrans, LEAP Program Manager, at (202) 377-3304 or by e-mail: greg.gerrans@ed.gov. The form will be e-mailed to you. Applications submitted electronically must be e-mailed to greg.gerrans@ed.gov and received by 11:59 p.m. (Eastern Time), May 29, 2009.

Paper Applications Delivered by Mail: States or territories may request a paper version of the application (Form 1288 OMB 1845-0028) by contacting Mr. Greg Gerrans, LEAP Program Manager, at (202) 377-3304 or by e-mail: greg.gerrans@ed.gov. The form will be mailed to you.

A paper application sent by mail must be addressed to: Mr. Greg Gerrans, LEAP Program Manager, Grants and Campus Based Programs Division, Business Operations, Federal Student Aid, U.S. Department of Education, 830 First Street, NE., Room 62E3, Washington, DC 20202.

The Department of Education encourages applicants that are completing a paper application to use certified or at least first-class mail when sending the application by mail to the Department. The Department must receive paper applications that are mailed no later than May 22, 2009.

Paper Applications Delivered by Hand: Paper applications that are hand-delivered must be delivered to Mr. Greg Gerrans, LEAP Program Manager, Grants and Campus Based Division, Business Operations, Federal Student Aid, U.S. Department of Education, 830 First Street, NE., Room 62E3, Washington, DC 20002. Hand-delivered applications will be accepted between 8 a.m. and 4:30 p.m. daily (Eastern time), except Saturdays, Sundays, and Federal holidays.

Paper applications that are hand-delivered must be received by 4:30 p.m. (Eastern time) on May 22, 2009.

Applicable Regulations: The following regulations are applicable to the LEAP and SLEAP programs:

(1) The LEAP and SLEAP Program regulations in 34 CFR part 692.

(2) The Student Assistance General Provisions in 34 CFR part 668.

(3) The Regulations Governing Institutional Eligibility in 34 CFR part 600.

(4) The Education Department General Administrative Regulations (EDGAR) in 34 CFR 75.60 through 75.62 (Ineligibility of Certain Individuals to Receive Assistance), part 76 (State-Administered Programs), part 77 (Definitions that Apply to Department Regulations), part 79 (Intergovernmental Review of Department of Education Programs and Activities), part 80 (Uniform Administrative Requirements for Grants and Cooperative Agreements to State and Local Governments), part 82 (New Restrictions on Lobbying), part 84 (Governmentwide Requirements for Drug-Free Workplace (Financial Assistance)), part 85 (Governmentwide Debarment and Suspension (Nonprocurement)), part 86 (Drug and Alcohol Abuse Prevention), and part 99 (Family Educational Rights and Privacy).

Electronic Access to This Document

You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Program Authority: 20 U.S.C. 1070c et seq.

Dated: April 28, 2009.
James F. Manning,
Acting Chief Operating Officer, Federal Student Aid.

[FR Doc. E9-10090 Filed 4-30-09; 8:45 am]

BILLING CODE 4000-01-P